NATIONAL SCIENCE FOUNDATION

Federal-Commercial Spectrum Sharing Workshop: Models, Application, and Impacts of Incentives for Sharing

AGENCY: The National Coordination Office (NCO) for Networking and Information Technology Research and Development (NITRD).

ACTION: Notice.

SUMMARY: The Wireless Spectrum R&D Senior Steering Group (WSRD SSG) has been conducting a series of workshops on understanding the fundamental issues involved in Federal and Commercial Spectrum Sharing. The seventh workshop in this series will focus on incentives. This workshop titled, “Federal-Commercial Spectrum Sharing: Models, Applications, and Impacts of Incentives for Sharing”, will be held on March 19, 2015, from 8:00 a.m. to 5:30 p.m., at the Stevens Institute of Technology, Hoboken, NJ. The workshop will be Webcast and the link will be made available at: https://www.nitrd.gov/nitrdgroups/index.php?title=Wireless_Spectrum_Research_and_Development_(WSRD)#title. Information gathered from this workshop will be used by the WSRD SSG to develop recommendations for the White House Office of Science and Technology Policy (OSTP).

DATES: March 19, 2015.

Background: The WSRD SSG workshop series stems from the June 14, 2013 Presidential Memorandum, Expanding America's Leadership in Wireless Innovation, to make more wireless spectrum available for commercial use by encouraging shared access by commercial and federal users. One of the directives was to explore and recommend market-based or other approaches that would incentivize Federal and commercial users to cooperate in sharing spectrum. Different groups have proposed a variety of budgetary and administrative incentives for Federal agencies. Proposals have included introduction of a spectrum currency and setting aside some portion of spectrum auction revenues to establish a spectrum efficiency or relocation fund. Internationally, the United Kingdom has explored charging spectrum usage fees to government agencies.

Rich and multidisciplinary research questions arise when considering incentives for bi-directional spectrum sharing. Sharing between government and commercial entities will require innovations in technology as well as in business, administrative, and market institutions and practices. Federal, public safety, and commercial users confront different constraints and strategic options, and can be expected to respond differently to opportunities and incentives. This workshop will discuss what research is needed to get a better understanding of these factors, including lessons learned, in order to identify incentives that will work.

Submitted by the National Science Foundation for the National Coordination Office (NCO) for Networking and Information Technology Research and Development (NITRD) on February 25, 2015.

FOR FURTHER INFORMATION CONTACT: Wendy Wigen at 703-292-4873 or wigen@nitrd.gov. Individuals who use a telecommunications device for the deaf (TDD) may call the Federal Information Relay Service (FIRS) at 1-800-877-8339 between 8 a.m. and 8 p.m., Eastern time, Monday through Friday.

Suzanne H. Plimpton,
Reports Clearance Officer, National Science Foundation.

[FR Doc. 2015-04236 Filed 3-5-15; 8:45 am]

BILLING CODE 7555-01-P